DEPARTMENT OF THE INTERIOR

National Park Service

[2253-665]

Notice of Inventory Completion: Alaska State Office, Bureau of Land Management, Anchorage, AK

AGENCY: National Park Service, Interior.

ACTION: Notice.

SUMMARY: The Alaska State Office, Bureau of Land Management has completed an inventory of human remains, in consultation with the appropriate Indian tribes, and has determined that there is a cultural affiliation between the human remains and present-day Indian tribes. Representatives of any Indian tribe that believes itself to be culturally affiliated with the human remains may contact the Alaska State Office, Bureau of Land Management. Repatriation of the human remains to the Indian tribes stated below may occur if no additional claimants come forward.

DATES: Representatives of any Indian tribe that believes it has a cultural affiliation with the human remains should contact the Alaska State Office, Bureau of Land Management, at the address below by January 23, 2012.

ADDRESSES: Dr. Robert E. King, Alaska State NAGPRA Coordinator, Bureau of Land Management, 222 W. 7th Avenue, Box 13, Anchorage, AK 99513-7599, telephone (907) 271-5510.

SUPPLEMENTARY INFORMATION: Notice is here given in accordance with the Native American Graves Protection and Repatriation Act (NAGPRA), 25 U.S.C. 3003, of the completion of an inventory of human remains in the control of the Bureau of Land Management (BLM) that are housed at the Field Museum of Natural History, Chicago, IL (Field Museum). The human remains were removed from Cherni Island, Aleutians East Borough, AK, in 1952, which was managed by the BLM at that time. The human remains have since been stored at the Field Museum.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Alaska State Office, BLM professional staff in consultation with representatives of Agdaagux Tribe of King Cove; Native Village of Belkofski; Native Village of False Pass; Native Village of Nelson Lagoon; Pauloff Harbor Village; Qagan Tayagungin Tribe of Sand Point Village; and the Native Village of Unga (hereinafter referred to as “The Tribes”).

History and Description of the Remains

In 1952, human remains representing a minimum of one individual were removed from Cherni Island, AK. According to Field Museum records, the human remains were removed by Robert Jones, Jr. of Cold Bay, AK, a biologist with the U.S. Fish and Wildlife Service, and presented to the museum in 1953. The human remains were subsequently stored by the museum and remain at that facility. In 2008, in an effort to determine control of the human remains, the Field Museum contacted the Alaska State Office, BLM concerning ownership of Cherni Island in 1952. Based on BLM land records, the land from which the remains were collected was under BLM management in 1952, and had been until 1984, when the lands were conveyed to Native Alaskan allottees. Because the land was managed by the BLM at the time the human remains were collected, the Alaska State Office, BLM assumed control of the collection for the purposes of NAGPRA. No known individuals were identified. No associated funerary objects are present.

Based on geographical location, condition, and morphology, the human remains are determined to be Native American. Cherni Island is a small, presently uninhabited, island located about 25 miles south of King Cove, AK, in the Aleutians East Borough. Due to the continuity of populations for thousands of years in the eastern Aleutian Islands, as demonstrated by archeological studies and oral traditions, the human remains represent an individual likely to be directly related to Native American tribal members who reside today in the same geographic location.

Determinations Made by the Alaska State Office, Bureau of Land Management

Officials of the Alaska State Office, BLM have determined that:

• Pursuant to 25 U.S.C. 3001(9), the human remains described in this notice represent the physical remains of one individual of Native American ancestry.

• Pursuant to 25 U.S.C. 3001(2), there is a relationship of shared group identity that can be reasonably traced between the Native American human remains and members of The Tribes.

Additional Requestors and Disposition

Representatives of any Indian tribe that believes itself to be culturally affiliated with the human remains should contact Dr. Robert E. King, Alaska State NAGPRA Coordinator, Bureau of Land Management, 222 W. 7th Avenue, Box 13, Anchorage, AK 99513-7599, telephone (907) 271-5510, before January 23, 2012. Repatriation of the human remains to The Tribes may proceed after that date if no additional claimants come forward.

The Alaska State Office, Bureau of Land Management is responsible for notifying The Tribes that this notice has been published.

Dated: December 20, 2011.
Sherry Hutt,
Manager, National NAGPRA Program.

[FR Doc. 2011-33016 Filed 12-22-11; 8:45 am]

BILLING CODE 4312-50-P